DEPARTMENT OF DEFENSE

Department of the Army

Army Educational Advisory Committee

AGENCY: Department of the Army, DoD.

ACTION: Notice of meeting.

SUMMARY: In accordance with Section 10(a)(2) of the Federal Advisory Committee Act (5 U.S.C. App. I), announcement is made of the following Committee meeting:

Name of Committee: U.S. Army War College (USAWC) Subcommittee of the Army Education Advisory Committee.

Dates of Meeting: April 3 & 4, 2003.

Place: Command Conference Room, Root Hall, USAWC, Carlisle Barracks, Pennsylvania.

Time: 8:30 a.m.-5 p.m.

Proposed Agenda: Review minutes of previous annual meeting and open old business for discussion; updated briefings and new business; discussions with Commandant and selected faculty; examine academic and facility issues in conjunction with transformation; re-assess resident and distance programs, highlight and discuss plans for the Process for Accreditation of Joint Education (PAGE) 2004; Subcommittee reports on charter and membership issues and educational policy, advancement, and fundraising issues; propose new strategies and recommendations that will guarantee compliance with regional accreditation standards, insure a successful PAGE, and continue the momentum of federal accreditation and institutional progress.

FOR FURTHER INFORMATION CONTACT: Colonel Kevin T. Connelly, Director of Joint Education, Department of Academic Affairs, U.S. Army War College, Carlisle Barracks, Pennsylvania 17013, or telephone (717) 245-3907.

SUPPLEMENTARY INFORMATION: This meeting is open to the public. Any interested person may attend, appear before, or file statements with the Committee after receiving advance approval to do so. To request approval to attend, participate, or submit, you must contact Colonel Kevin T. Connelly not later than March 17, 2003, at the above address or phone number.

Kevin T. Connelly,
Colonel, U.S. Army, Designated Federal Official.

[FR Doc. 03-4403 Filed 2-27-03; 8:45 am]

BILLING CODE 3710-08-M